DEPARTMENT OF COMMERCE

National Oceanic and Atmospheric Administration

RIN 0648-XD405

South Atlantic Fishery Management Council; Public Meetings

AGENCY: National Marine Fisheries Service (NMFS), National Oceanic and Atmospheric Administration, Commerce.

ACTION: Notice of public hearings and scoping meetings.

SUMMARY: The South Atlantic Fishery Management Council (Council) will hold a series of public hearings and scoping meetings in August. Public hearings will be held for the Generic Accountability Measures and Dolphin Allocation Amendment, Amendment 32 to the Snapper Grouper Fishery Management Plan (FMP) addressing blueline tilefish management measures, Regulatory Amendment 20 to the Snapper Grouper FMP addressing snowy grouper measures, South Atlantic Coastal Migratory Pelagic Framework Amendment 2 addressing measures for Atlantic Spanish mackerel, Amendment 7 to the Dolphin Wahoo FMP and Amendment 33 to the Snapper Grouper FMP. The latter amendments address management measures for fillets to be transported from The Bahamas into the U.S. Exclusive Economic Zone. Public scoping will be held on Amendment 35 to the Snapper Grouper FMP (species removal) and Amendment 36 to the Snapper Grouper FMP (Spawning Special Management Zones). See SUPPLEMENTARY INFORMATION.

DATES: The series of public hearings and scoping meetings will be held August 6, 2014 through August 14, 2014. The hearings/scoping meetings will be held from 4 p.m. until 7 p.m. Council staff will present an overview of the amendments and will be available for informal discussions and to answer questions. Members of the public will have an opportunity to go on record at any time during the meeting hours to record their comments on the public hearing and scoping topics for consideration by the Council. Local Council representatives will attend the meetings and take public comment. Written comments will be accepted until 5 p.m. on August 18, 2014. See SUPPLEMENTARY INFORMATION.

ADDRESSES: Written comments should be sent to Bob Mahood, Executive Director, South Atlantic Fishery Management Council, 4055 Faber Place Drive, Suite 201, North Charleston, SC 29405. Fax comments to (843) 769-4520. Email all comments to: Mike.Collins@safmc.net. Note: Persons should include the name of the amendment or amendments in the “Subject Line” of the email message when submitting comments via email.

Copies of the public hearing and scoping documents are available by contacting Kim Iverson, Public Information Officer, South Atlantic Fishery Management Council, 4055 Faber Place Drive, Suite 201, North Charleston, SC 29405; telephone: (843) 571-4366 or toll free at 866/SAFMC-10. Copies will also be available online at www.safmc.net under the Public Hearings & Scoping Meeting page as they become available.

FOR FURTHER INFORMATION CONTACT: Kim Iverson, South Atlantic Fishery Management Council, 4055 Faber Place Drive, Suite 201, North Charleston, SC 29405; telephone: (843) 571-4366; fax: (843) 769-4520; email address: kim.iverson@safmc.net.

SUPPLEMENTARY INFORMATION: Public hearings: The Generic Accountability Measure (AM) and Dolphin Allocation Amendment would modify the AM triggering criteria for species in the snapper grouper management complex and golden crab to help bring consistency across species managed by the Council. The amendment could also modify commercial and recreational sector allocations for dolphin (mahi mahi). Snapper Grouper Amendment 32 includes actions to end overfishing and rebuild the blueline tilefish stock in the South Atlantic; Snapper Grouper Regulatory Amendment 20 proposes adjustments to the rebuilding strategy, Acceptable Biological Catch, Annual Catch Limit and other management measures for snowy grouper. Coastal Migratory Pelagic Framework Amendment 2 includes measures to revise the quota and trip limit system for the commercial harvest of Atlantic Spanish Mackerel in the Southern Zone (as proposed in Amendment 20B, this zone includes the EEZ off of South Carolina, Georgia, and the east coast of Florida). Both Dolphin Wahoo Amendment 7 and Snapper Grouper Amendment 33 address measures to allow recreational fishermen to bring fillets from The Bahamas.

Scoping: Snapper Grouper Amendment 35 includes options to remove four species (black snapper, dog snapper, mahogany snapper, and schoolmaster) from the Snapper Grouper Management Complex. Snapper Grouper Amendment 36 includes options to develop a process for identifying spawning sites/aggregations of species in the snapper grouper management complex, including speckled hind and warsaw grouper, based on the characteristics of sites important for spawning. The public is encouraged to provide information on possible spawning areas as part of the scoping process. The Council is considering options to use Special Management Zones to protect known spawning aggregations.

Public Hearing and Scoping Meeting Schedule

August 6, 2014—Bay Watch Resort & Conference Center, 2701 S. Ocean Boulevard, N. Myrtle Beach, SC 29582; telephone: (834) 272-4600;

August 7, 2014—The Crystal Coast Civic Center, 3505 Arendell Street, Morehead City, NC 28557; telephone: (252) 247-3883;

August 11, 2014—Key West Marriott Beachside, 3841 N. Roosevelt Boulevard, Key West, FL 33040; telephone: (305) 296-8100;

August 12, 2014—Hilton Cocoa Beach Oceanfront, 1550 N. Atlantic Avenue, Cocoa Beach, FL 32931; telephone: (321) 799-0003;

August 13, 2014—Wyndham Jacksonville Riverwalk, 1515 Prudential Drive, Jacksonville, FL 32207; telephone: (904) 396-5100; and

August 14, 2014—Mighty Eighth Air Force Museum, 175 Bourne Avenue, Pooler, GA 31322; telephone: (912) 743-8888.

Special Accommodations

These meetings are physically accessible to people with disabilities. Requests for sign language interpretation or other auxiliary aids should be directed to the Council office (see ADDRESSES) 3 days prior to the start of each meeting.

Dated: July 18, 2014.
Tracey L. Thompson,
Acting Deputy Director, Office of Sustainable Fisheries, National Marine Fisheries Service.

[FR Doc. 2014-17393 Filed 7-23-14; 8:45 am]

BILLING CODE 3510-22-P